DEPARTMENT OF TRANSPORTATION

Federal Aviation Administration

14 CFR Part 111

[Docket No.: FAA-2020-0246; Amdt. Nos. 11-65, 91-363, and 111-1A]

RIN 2120-AK31

Pilot Records Database; Correction

AGENCY: Federal Aviation Administration (FAA), U.S. Department of Transportation (DOT).

ACTION: Final rule; correction.

SUMMARY: On June 10, 2021, the FAA published a final rule regarding the use of an electronic Pilot Records Database (PRD) and implementing statutory requirements to facilitate the sharing of pilot records among air carriers and other operators in an electronic data system managed by the FAA. An error in one of the amendatory instructions resulted in an incorrect effective date. This document corrects that effective date.

DATES: This correction is effective August 9, 2021.

FOR FURTHER INFORMATION CONTACT: Christopher Morris, 3500 S MacArthur Blvd, ARB301, Oklahoma City, Oklahoma 73179; telephone (405) 954-4646; email christopher.morris@faa.gov.

SUPPLEMENTARY INFORMATION: The final rule, published June 10, 2021, at 86 FR 31006, amends Title 14 of the Code of Federal Regulations (14 CFR) by adding new part 111, Pilot Records Database (PRD). The amendment adding part 111 was intended to be effective on August 9, 2021, but was erroneously printed with an effective date of September 8, 2021.

Therefore, in FR Doc. 2021-11424 appearing on page 31006 in the Federal Register of Thursday, June 10, 2021, the following corrections are made:

PART 111 [CORRECTED]

1. On page 31060, in the second column, in amendment 5, the instruction “Effective September 8, 2021, add part 111 to subchapter G to read as follows:” is corrected to read “Effective August 9, 2021, add part 111 to subchapter G to read as follows:”

Issued in Washington, DC, under the authority of 49 U.S.C. 106(f), U.S.C. 106(f), 106(g) 44701(a), 44703, 44711, 46105, and 46301 on or about June 11, 2021.

Timothy R. Adams,
Acting Executive Director, Office of Rulemaking, Federal Aviation Administration.

[FR Doc. 2021-12749 Filed 6-16-21; 8:45 am]

BILLING CODE 4910-13-P